GENERAL SERVICES ADMINISTRATION

41 CFR Part 301-51

[FTR Interim Rule 8]

RIN 3090-AG92

Federal Travel Regulation; Mandatory Use of the Travel Charge Card; Correction

AGENCY: Office of Governmentwide Policy, GSA.

ACTION: Interim rule; correction.

SUMMARY: This document makes corrections to FTR Interim Rule 8 appearing in the Federal Register of Friday, July 16, 1999 (64 FR 38528), which amends the Federal Travel Regulation (FTR) provisions pertaining to payment by the Government of expenses connected with official Government travel.

EFFECTIVE DATE: July 16, 1999.

FOR FURTHER INFORMATION CONTACT: Jim Harte, Travel and Transportation Management Policy Division, telephone (202) 501-1538.

SUPPLEMENTARY INFORMATION: In document 99-18291 beginning on page 38528 in the issue of Friday, July 16, 1999, make the following corrections:

PART 301-5—[CORRECTED]

1. On page 38528, in the second column, correct amendatory instruction 1. to read as follows:

“1. The authority citation for part 301-51 continues to read as follows:

Authority: 5 U.S.C. 5707.”

2. On page 38528, second column, add new amendatory instruction 1a. immediately after amendatory instruction 1. to read as follows:

“1a. Part 301-51 is amended by revising subpart A to read as follows:

3. On page 38528, second column, correct the heading “PART 301-51—PAYING TRAVEL EXPENSES” to read “Subpart A—General”.

4. On page 38528, third column, fourth line, remove the words “Authority: 5 U.S.C. 5707.”.

5. On page 38528, third column, add “Subpart A—General” immediately preceding § 301-51.1.

Dated: January 11, 2000.
Peggy G. DeProspero,
Deputy Director, Travel and Transportation Management Policy Division.

[FR Doc. 00-1025 Filed 1-14-00; 8:45 am]

BILLING CODE 6820-34-P